INTERNATIONAL TRADE COMMISSION

[Investigation No. 337-TA-1428]

Certain Women's Flats With Colored Outsoles Thereof; Notice of Institution of Investigation

AGENCY: U.S. International Trade Commission.

ACTION: Notice.

SUMMARY: Notice is hereby given that a complaint was filed with the U.S. International Trade Commission on November 13, 2024, under section 337 of the Tariff Act of 1930, as amended, on behalf of Gavrieli Brands LLC of Culver City, California. An amended complaint was filed on November 20, 2024. A supplement to the amended complaint was filed on December 2, 2024. The complaint, as amended and supplemented, alleges violations of section 337 based upon the importation into the United States, the sale for importation, and the sale within the United States after importation of certain women's flats with colored outsoles thereof by reason of infringement of the claim of one or more of U.S. Design Patent No. D681,928 (the “ '928 patent”), U.S. Design Patent No. D844,950 (the “ '950 patent”), U.S. Design Patent No. D844,951 (the “ '951 patent”), U.S. Design Patent No. D681,927 (the “ '927 patent”), U.S. Design Patent No. D781,035 (the “ '035 patent”), U.S. Design Patent No. D781,032 (the “ '032 patent”), U.S. Design Patent No. D686,812 (the “ '812 patent”), and U.S. Design Patent No. D688,853 (the “ '853 patent”). The complaint further alleges that an industry in the United States exists as required by the applicable Federal Statute. The complaint also alleges violations of section 337 based upon the importation into the United States, or in the sale of certain flats with colored outsoles thereof by reason of trade dress infringement, the threat or effect of which is to destroy or substantially injure an industry in the United States. The complainant requests that the Commission institute an investigation and, after the investigation, issue a general exclusion order, or in the alternative a limited exclusion, and cease and desist orders.

ADDRESSES: The complaint, as amended and supplemented, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on December 12, 2024, ordered that—

(1) Pursuant to subsection (b) of section 337 of the Tariff Act of 1930, as amended,

(a) an investigation be instituted to determine whether there is a violation of subsection (a)(1)(A) of section 337 in the importation or sale of certain products identified in paragraph (2) by reason of trade dress infringement, the threat of which is to destroy or substantially injure an industry in the United States;

(b) an investigation be instituted to determine whether there is a violation of subsection (a)(1)(B) of section 337 in the importation into the United States, the sale for importation, or the sale within the United States after importation of certain products identified in paragraph (2) by reason of infringement of the claim of the '928 patent; the claim of the '950 patent; the claim of the '951 patent; the claim of the '927 patent; the claim of the '035 patent; the claim of the '032 patent; the claim of the '812 patent; and the claim of the '853 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “women's ballet flats with colored outsoles thereof”;

(3) For the purpose of the investigation so instituted, the following are hereby named as parties upon which this notice of investigation shall be served:

(a) The complainant is: Gavrieli Brands LLC, 5731 Buckingham Parkway, Culver City, California 90230.

(b) The respondents are the following entities alleged to be in violation of section 337, and are the parties upon which the complaint is to be served:

Kijera's OneDrop LLC, 630 Malcolm X Blvd., Suite 8M, New York, NY 10037

Craze, CSFD 1008 Maria Clara Road, Essel Park, CSFD, Philippines

Pierjeda Information Technology Co., Ltd., Room 413, 4 Floor, No. 50 Huihua Road, Tonde Street, Baiyun District, Guangzhou, China

Shengze Trading Company, 122 Linhou, Meixi Village, Shiliu Town, Zhangpu County, Zhangshou City, Fujian Province, China

Guangzhou Shun Cheng Trading Co., Ltd., Room 501, No. 5, Lane 4, Hongxingqiaobian Street, Shimen Street, Baiyun District, Guangzhou, China

Kunming Ouxiang Trading Co., Ltd., No. 1808, 18th Floor, Caizhi Xinjing Building, No. 924 Beijing Road, Lianmeng Street, Panlong District, Kunming City, Yunnan Province, China

Huihui Bianan, No. 18 West Avenue, Huilong Weihuo B17, Huilonguan, Changping District, Beijing, China

Bingxin Qingfeng, 3rd Floor, Building A, Apro Industrial Zone, No. 1 Shenghong Road, Huangpu Town, Zhongshan City, Guangdong, Province, China

Baiqiuju1983, 3rd Floor, Building A, Apro Industrial Zone, No. 1 Shenghong Road, Huangpu Town, Zhongshan City, Guangdong, Province, China

tb249835650, 3rd Floor, Building A, Apro Industrial Zone, No. 1 Shenghong Road, Huangpu Town, Zhongshan City, Guangdong, Province, China

Yuyoufang Foreign Trade Store, 3rd Floor, Building A, Apro Industrial Zone, No. 1 Shenghong Road, Huangpu Town, Zhongshan City, Guangdong, Province, China

Xu Wenping 123, 3rd Floor, Building A, Apro Industrial Zone, No. 1 Shenghong Road, Huangpu Town, Zhongshan, City, Guangdong Province, China

Ynwll, No. 18 West Avenue, Huilong Weihuo B16, Huilonguan, Changping District, Beijing No. 18, Huilongguan, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 13, 2024.
Lisa Barton,
Secretary to the Commission.

[FR Doc. 2024-29977 Filed 12-17-24; 8:45 am]

BILLING CODE 7020-02-P